DEPARTMENT OF AGRICULTURE

Natural Resources Conservation Service

Central Sonoma Watershed, Sonoma County, California

AGENCY: Natural Resources Conservation Service, USDA.

ACTION: Notice of a finding of no significant impact.

SUMMARY: Pursuant to section 102(2)(c) of the National Environmental Policy Act of 1969, the Council on Environmental Quality regulations (40 CFR part 1500), and the Natural Resources Conservation Service regulations (7 CFR part 650), the Natural Resources Conservation Service, U.S. Department of Agriculture, gives notice that an environmental impact statement is not being prepared for Supplemental Watershed Agreement No. 7 for the Central Sonoma Watershed, Sonoma County, California.

FOR FURTHER INFORMATION CONTACT: Luana Kiger, Special Assistant to the State Conservationist, Natural Resources Conservation Service, 430 G Street, Davis, California, 95616-4164, telephone (530) 792-5661.

SUPPLEMENTARY INFORMATION: The environmental assessment of this federally assisted action indicates that the modifications to the project will not cause significant local, regional, or national impacts on the environment. As a result of these findings, Charles W. Bell, State Conservationist, has determined that the preparation and review of an environmental impact statement are not needed for this action.

The original project purpose was flood prevention. Supplement No. 7 will add fish and wildlife development as a second purpose. The proposed work involves reconstructing 1,100 feet of flood channel to improve its fish habitat characteristics.

The Finding of No Significant Impact (FONSI) has been forwarded to the Environmental Protection Agency and to various Federal, State, and local agencies. A limited number of copies of the FONSI are available to fill single copy requests at the above address. Basic data developed during the environmental assessment are on file and may be reviewed by contacting Luana Kiger, Special Assistant to the State Conservationist.

No administrative action on implementation of the proposal will be taken until 30 days after the date of this publication in the Federal Register.

(This activity is listed in the Catalog of Federal Domestic Assistance under No. 10.904, Watershed Protection and Flood Prevention, and is subject to the provisions of Executive Order 12372, which requires intergovernmental consultation with State and local officials.)
Dated: August 14, 2003.
Charles W. Bell,
State Conservationist.

[FR Doc. 03-21263 Filed 8-19-03; 8:45 am]

BILLING CODE 3410-16-M